AGENCY FOR INTERNATIONAL DEVELOPMENT

National Environmental Policy Act: Categorical Exclusions for Certain Internal, Domestic USAID Activities Funded From the USAID Operating Expense Account

AGENCY: United States Agency for International Development.

ACTION: Directive of Final Action and Request for Comments.

SUMMARY: The United States Agency for International Development (USAID) hereby establishes Categorical Exclusions (CEs) under the National Environmental Policy Act (NEPA) for certain types of activities that focus on internal, domestic USAID Operating Expense (OE) account-funded activities such as routine internal administrative actions, routine maintenance of domestic facilities, and procurement and deployment of information technology software and systems in existing facilities. The Directive CEs will better ensure USAID implementation of NEPA by providing for the efficient and timely environmental review of routine internal administrative operations at USAID facilities.

DATES: Submit comments on or before October 9, 2009.

Effective Date: This Directive is effective immediately upon publication. All comments will be reviewed and considered to determine whether there is a need for potential amendment to the CEs.

ADDRESSES: United States Agency for International Development, Ronald Reagan Building, 1300 Pennsylvania Avenue, Washington, DC 20523.

FOR FURTHER INFORMATION CONTACT: George Higginbotham, M/MPBP/POL Rm. 6.8-104, United States Agency for International Development, Ronald Reagan Building, 1300 Pennsylvania Avenue, Washington, DC 20523, ghigginbotham@usaid.gov.

SUPPLEMENTARY INFORMATION: Consistent with the Council on Environmental Quality (CEQ) Regulations for Implementing the Procedural Provisions of the National Environmental Policy Act, this Directive establishes CEs for certain routine internal, domestic administrative and operational activities of USAID organizations and offices funded from the OE account. These selected types of OE-funded activities were reviewed and determined to be categories of actions that do not have individual or cumulative significant effects on the human or natural environment, and therefore are the appropriate subject of a Categorical Exclusion under NEPA. The activities addressed in this Directive are routine internal administrative actions, routine maintenance of domestic USAID facilities, and procurement and deployment of information technology software and systems in existing USAID facilities. The activities addressed in this Directive maintain the daily internal administrative functions of USAID and do not have the potential for significant environmental effects. The Directive provides for the required review to determine whether there are extraordinary circumstances that may trigger a requirement for either an Environmental Assessment (EA) or Environmental Impact Statement (EIS), and, in the absence of such extraordinary circumstances, provides for the activity to proceed without preparation of an EA or EIS.

USAID has to date ensured the environmental soundness of its internal administrative management operations (OE-funded activities) by directly applying the Presidential Executive Orders on Greening the Government. USAID will continue to follow these Executive Orders (including Executive Order 13423 and related Executive Orders) when applying CEs for certain activities under this directive. These include maintaining existing USAID facilities and procuring, maintaining, and disposing of computer equipment. This Directive establishes NEPA-compliant CEs for USAID's domestic, internal OE-funded activities.

USAID intends to publish a proposed NEPA regulation on all of its OE-funded actions later this year, and the CEs in this Directive will, subject to consideration of public comments, be included or otherwise incorporated in that proposed USAID NEPA regulation.

USAID will publish the CEs included in this Directive on the USAID Web site, which is available to the public.

Neither this action nor the proposed follow-on NEPA regulation to be developed for USAID's OE-funded activities affects or changes in any way USAID's current environmental impact assessment procedures (22 CFR 216) that apply to all program activities funded by appropriations provided through the Agency's program accounts.

Regulatory Certifications

Executive Order 12866

This Directive has been drafted and reviewed in accordance with Executive Order 12866, “Regulatory Planning and Review.” The Office of Management and Budget has determined that this Directive is not a “significant regulatory action” under Executive Order 12866; and accordingly, this Directive has not been reviewed by the Office of Management and Budget. This Directive affects USAID internal procedures. Whatever costs that may result from this Directive should be outweighed by the reduction in delay and excessive paperwork from these procedures.

Executive Order 13121

This Directive only affects certain internal administrative procedures and actions of USAID as described in this Directive that will not have substantial direct effects on the States, relationships between the national government and the States, or the distribution of power and responsibilities among the various levels of government. Therefore, in accordance with Executive Order 13132, it is determined that this Directive will not have sufficient federalism implications to warrant preparation of a Federalism Assessment.

Executive Order 12988

This Directive meets the applicable standards set forth in section 3(a) and 3(b)(2) of Executive Order 12988.

Regulatory Flexibility Act

USAID's Regulatory Policy Officer, in accordance with the Regulatory Flexibility Act (5 U.S.C. 605(b)), has reviewed this Directive and approved it. Because this Directive only affects the internal procedures of the USAID, it will not have a significant economic impact on a substantial number of small entities.

Unfunded Mandates Reform Act of 1995

This Directive will not result in an expenditure of $100,000,000 or more in any one year by State, local, and tribal governments, in the aggregate, or by the private sector, nor will it significantly or uniquely affect small governments. Therefore, no actions are deemed necessary under the provisions of the Unfunded Mandates Reform Act of 1995.

Small Business Regulatory Enforcement Fairness Act of 1996

This Directive is not a major rule as defined in section 804 of the Small Business Regulatory Enforcement Fairness Act of 1996. This Directive will not result in an annual effect on the economy of $100,000,000 or more, a major increase in costs or prices, significant adverse effects on competition, employment, investment, productivity, innovation, or on the ability of United States-based companies to compete with foreign-based companies in domestic and export markets.

Environmental Impact

This Directive supplements CEQ regulations and provides guidance to USAID employees regarding procedural requirements for certain OE-funded activities that do not individually or cumulatively have a significant effect on the human environment. CEQ does not direct agencies to prepare a NEPA analysis or document before establishing agency procedures that supplement the CEQ regulations for implementing NEPA. Agency NEPA procedures are procedural guidance to assist agencies in the fulfillment of agency responsibilities under NEPA. The requirements for establishing agency NEPA procedures are set forth at 40 CFR 1505.1 and 1507.3

For the reasons set out in the preamble, USAID establishes the following Directive:

Categorical Exclusions for Domestic Internal Operational Activities

Purpose: Establish National Environmental Policy Act (NEPA)-compliant Categorical Exclusions for certain United States Agency for International Development (USAID) domestic internal operational activities.

Policy: Consistent with the Council on Environmental Quality (CEQ) Regulations for Implementing the Procedural Provisions of NEPA (40 CFR parts 1500-1508) (CEQ NEPA regulations), USAID establishes the following Categorical Exclusions for certain categories of internal, domestic USAID Operating Expense (OE) account-funded activities that address routine internal administrative and operational activities. A proposed action may be categorically excluded if the action fits within a category that is eligible for exclusion and the proposed action does not involve any extraordinary circumstances.

The categories of activities eligible for Categorical Exclusions are:

a. Internal personnel, fiscal, management, and administrative activities, such as recruiting, processing, paying, recordkeeping, resource management, budgeting, personnel actions, official travel, and reductions, increases, realignments, or relocation of personnel that do not exceed the infrastructure capacity or change the use of USAID occupied office space. An example of a substantial change in use of the supporting infrastructure would be an increase in vehicular traffic beyond the capacity of the supporting road network to accommodate such an increase; or generating a new stream of toxic or hazardous waste that needs to be properly disposed of.

b. Actions at USAID owned or operated facilities involving routine facility maintenance, repair, and grounds-keeping; minor rehabilitation, restoration, renovation, or revitalization of existing facilities; and replacement, acquisition, and installation of information technology and similar office equipment. To qualify for this Categorical Exclusion, all such acquisition actions shall comply with the Presidential Executive Orders on Greening the Government. This includes E.O. 13423 and related Executive Orders.

c. Acquisition actions (compliant with applicable procedures for sustainable or “green” procurement) and contracting actions necessary to support the normal conduct of USAID business. Examples include office supplies and utilities, and equipment such as furniture, and information technology software and systems. To qualify for this Categorical Exclusion, all such acquisition actions shall comply with the Presidential Executive Orders on Greening the Government. This includes E.O. 13423 and related Executive Orders.

d. Minor or small-scale construction of ancillary facilities on previously disturbed areas adjacent to or on the same property as the existing facility and compatible with current land use. To qualify for this Categorical Exclusion, all such acquisition actions shall comply with the Presidential Executive Orders on Greening the Government. This includes E.O. 13423 and related Executive Orders.

e. Awarding of contracts for technical support services, information technology services, and services for ongoing management and operation of government facilities. To qualify for this Categorical Exclusion, all such actions shall comply with the Presidential Executive Orders on Greening the Government. This includes E.O. 13423 and related Executive Orders.

It has been determined that the following extraordinary circumstances that would prevent the use of a Categorical Exclusion and require either an Environmental Assessment or Environmental Impact Statement:

a. The proposed action is known or expected to significantly affect public health, safety, or the environment.

b. The proposed action is known or expected to impose uncertain or unique environmental risks.

c. The proposed action is of greater scope or size than is normal for this category of action.

d. The proposed action is known or expected to significantly affect federally listed threatened or endangered species or their critical habitat.

e. The proposed action is known or expected to significantly affect national natural landmarks or any property with nationally significant historic, architectural, prehistoric, archeological, or cultural value, including but not limited to, property listed on or eligible for the National Register of Historic Places.

f. The proposed action is known or expected to significantly affect environmentally important natural resource areas such as parks, forests, wetlands, floodplains, significant agricultural lands, aquifer recharge zones, coastal zones, coral reefs, barrier islands, wild and scenic rivers, and significant fish or wildlife habitat.

g. The proposed action is known or expected to cause significant adverse air quality effects.

h. The proposed action is known or expected to have a significant effect on the pattern and type of land use (industrial, commercial, agricultural, recreational, residential) or growth and distribution of population including altering the character of existing residential areas, or may not be consistent with state or local government, or federally-recognized Indian tribe approved land use plans or federal land management plans.

Applicability: This Directive applies to USAID domestic internal operational and administrative activities, including USAID ARRA-funded actions to develop and implement its new computer based acquisition and assistance system to manage contracting and granting activities. The Directive is effective immediately upon publication, and USAID will consider comments submitted on this Directive when developing its proposed NEPA regulation for Operating Expense-funded activities.

Responsibilities: The USAID Agency Environmental Coordinator (AEC) is responsible for NEPA policy, guidance and oversight relating to this Directive. The AEC will receive advice and guidance from the Office of General Counsel as to NEPA implementation and compliance with this Directive. USAID's Chief Information Officer (CIO) is responsible for reporting to CEQ and OMB on the status of ARRA funded activities.

George Higginbotham,
M/MPBP/POL.

[FR Doc. E9-21740 Filed 9-8-09; 8:45 am]

BILLING CODE 6116-01-P